DEPARTMENT OF ENERGY

Federal Energy Regulatory Commission

[Project No. 2157-188]

Public Utility District No.1 of Snohomish County, WA; Notice of Technical Conference for the Jackson Hydroelectric Project Settlement Agreement

May 5, 2010.

On October 14, 2009, the Public Utility District No. 1 of Snohomish County, Washington (District), on behalf of itself, the city of Everett, the city of Sultan, Tulalip Tribe, American Whitewater, and six State and Federal agencies, filed a comprehensive settlement agreement (Settlement) and Joint Explanatory Statement for the relicensing of the Jackson Hydroelectric Project. On May 5, 2010, staff issued a draft environmental assessment analyzing the terms and conditions of the Settlement.

Commission staff will hold a technical conference to discuss the proposed license articles submitted by the District as part of its Settlement and the Commission's draft environmental assessment.

The technical conference will be held on Tuesday, June 8, 2010, beginning at 9 a.m. (PST). The technical conference will be held at the District's Electric Building Headquarters located at 2320 California Street, Everett, Washington.

For further information, contact David Turner at (202) 502-6091, or by e-mail at david.turner@ferc.gov.

Kimberly D. Bose,
Secretary.

[FR Doc. 2010-11235 Filed 5-11-10; 8:45 am]

BILLING CODE 6717-01-P